DEPARTMENT OF JUSTICE

Antitrust Division

Notice Pursuant to the National Cooperative Research and Production Act of 1993—Cooperative Research Group on Development and Validation of FlawPRO for Assessing Defect Tolerance of Welded Pipes Under Generalized High Strain Conditions

Notice is hereby given that, on May 17, 2011, pursuant to Section 6(a) of the National Cooperative Research and Production Act of 1993, 15 U.S.C. 4301 et seq. (“the Act”), Southwest Research Institute—Cooperative Research Group on Development and Validation of FlawPRO for Assessing Defect Tolerance of Welded Pipes Under Generalized High Strain Conditions (“FlawPRO-JIP”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Chevron U.S.A., Inc., Houston, TX; Heerema Marine Contractors Nederland B.V., Leiden, THE NETHERLANDS; Tubos De Acero De Mexico S.A., Veracruz, MEXICO; Shell Oil Company, Houston, TX; and ExxonMobil Development Company, Houston, TX. The general area of FlawPRO-JIP's planned activity is to develop an enhanced version of the FlawPRO™ software (hereafter called FlawPRO™ Version 4) that includes a comprehensive high-strain assessment capability based on recently developed tearing-fatigue and ratcheting fatigue. Moreover, the methodology incorporated into FlawPRO™Version 4 will be validated by comparing software prediction with newly measured results obtained from full-scale tests on pipes subjected to ratcheting fatigue and increasing monotonic strain conditions while being loaded by bending and internal pressure.

Patricia A. Brink,
Director of Civil Enforcement, Antitrust Division.

[FR Doc. 2011-16637 Filed 7-6-11; 8:45 am]

BILLING CODE 4410-11-M